DEPARTMENT OF LABOR

Employment and Training Administration

[NAFTA-5418]

CTI Audio, Inc., Conneaut, Ohio; Notice of Termination of Investigation

Pursuant to Title V of the North American Free Trade Agreement Implementation Act (Pub. L. 103-182) concerning transitional adjustment assistance, hereinafter called NAFTA-TAA and in accordance with section 250(a), Subchapter D, Chapter 2, Title II, of the Trade Act of 1974, as amended (19 U.S.C. 2331), an investigation was initiated on October 11, 2001, in response to a petition filed by a company official, on behalf of workers at CTI Audio, Inc., Conneaut, Ohio.

The petitioner has requested that the petition be withdrawn. Consequently, further investigation in this case would serve no purpose, and the investigation has been terminated.

Signed at Washington, DC this 4th day of January, 2002.
Linda G. Poole,
Certifying Officer, Division of Trade Adjustment Assistance.

[FR Doc. 02-1772 Filed 1-23-02; 8:45 am]

BILLING CODE 4510-30-M